DEPARTMENT OF COMMERCE

National Oceanic and Atmospheric Administration

[I.D. 083104B]

Marine Mammals; Permit No. 782-1708-00

AGENCY: National Marine Fisheries Service (NMFS), National Oceanic and Atmospheric Administration (NOAA), Commerce.

ACTION: Receipt of application for amendment.

SUMMARY: Notice is hereby given that the NMFS, National Marine Mammal Laboratory (NMML), has requested an amendment to scientific research Permit No. 782-1708-00.

DATES: Written, telefaxed, or e-mail comments must be received on or before October 18, 2004.

ADDRESSES: The amendment request and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249;

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: Permit No. 782-1708-00.

FOR FURTHER INFORMATION CONTACT: Ruth Johnson or Amy Sloan, (301)713-2289.

SUPPLEMENTARY INFORMATION: The subject amendment to Permit No. 782-1708-00, issued on August 28, 2003 (68 FR 52906) is requested under the authority of the Marine Mammal Protection Act of 1972, as amended (16 U.S.C. 1361 et seq.), the Regulations Governing the Taking and Importing of Marine Mammals (50 CFR part 216), and the Fur Seal Act of 1966, as amended (16 U.S.C. 1151 et seq.).

Permit No. 782-1708 authorizes the permit holder to conduct scientific research on northern fur seals (Callorhinus ursinus). Seals may be captured, tagged, sampled and incidentally harassed during annual censuses on the Pribilof Islands. The objectives of this work are to: (1) monitor the status and trends of the northern fur seal population, (2) evaluate the condition of animals from each cohort (health and strength of year-class), (3) monitor the diet, and (4) document the movement patterns, foraging behavior, and essential foraging habitat of various age and sex classes of fur seals. The information collected under this permit is important for assessing the recovery of this depleted species and for evaluating management actions.

The current knowledge base regarding reasons for the continued decline of the northern fur seal population would benefit from direct longitudinal studies on mother pup pairs and comparative studies on habitat use and success of individuals from the decreasing Pribilof Islands population and the increasing Bogolof Island population. In this regard, the Holder is requesting an amendment to the Permit to: collect a blubber sample, use tritiated water on 70 of the adult females already authorized to be taken, and to hold them up to 2.5 hours; include gastric intubation, use of deuterated water on 60 pups already authorized to be taken, recapture them twice, and hold pups for up to 2.5 hours. Both isotope procedures would be conducted simultaneously on mother-pup pairs. After the final blood sample, pairs would be released together. The proposed amendment would allow research that will contribute information needed for long term studies of adult female fur seals through their pupping, lactation, and annual migration periods. When combined with studies of their pups throughout the lactation period, this would provide important insight into female/pup body condition, female reproductive success, and habitat use during the breeding season and the winter migration. The differences in population trends, foraging locations, and diets between the Pribilof Island and Bogoslof Island populations will be addressed in the proposed study.

In compliance with the National Environmental Policy Act of 1969 (42 U.S.C. 4321 et seq.), an initial determination (dated August 28, 2004) has been made that the Permitted activities are categorically excluded from the requirement to prepare an environmental assessment or environmental impact statement.

Concurrent with the publication of this notice in the Federal Register, NMFS is forwarding copies of this application to the Marine Mammal Commission and its Committee of Scientific Advisors.

Dated: September 10, 2004.
Stephen L. Leathery,
Chief, Permits, Conservation and Education Division, Office of Protected Resources, National Marine Fisheries Service.

[FR Doc. 04-20887 Filed 9-15-04; 8:45 am]

BILLING CODE 3510-22-S